SECURITIES AND EXCHANGE COMMISSION

[File No. 500-1]

In the Matter of Centrack International, Inc., Alternafuels, Inc., Intelligent Medical Imaging, Inc., and Optimark Data Systems, Inc.; Order of Suspension of Trading

April 4, 2011.

It appears to the Securities and Exchange Commission that there is a lack of current and accurate information concerning the securities of Centrack International, Inc. because it has not filed any periodic reports since the period ended February 28, 2002.

It appears to the Securities and Exchange Commission that there is a lack of current and accurate information concerning the securities of Alternafuels, Inc. because it has not filed any periodic reports since the period ended December 31, 2003.

It appears to the Securities and Exchange Commission that there is a lack of current and accurate information concerning the securities of Intelligent Medical Imaging, Inc. because it has not filed any periodic reports since the period ended September 30, 1999.

It appears to the Securities and Exchange Commission that there is a lack of current and accurate information concerning the securities of Optimark Data Systems, Inc. because it has not filed any periodic reports since the period ended August 31, 1999.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 4, 2011, through 11:59 p.m. EDT on April 15, 2011.

By the Commission.
Jill M. Peterson,
Assistant Secretary.

[FR Doc. 2011-8290 Filed 4-4-11; 4:15 pm]

BILLING CODE 8011-01-P